DEPARTMENT OF ENERGY

Federal Energy Regulatory Commission

[Project No. 15368-000]

Orcas Power & Light Cooperative; Notice of Preliminary Permit Application Accepted for Filing and Soliciting Comments, Motions To Intervene, and Competing Applications

On July 22, 2024, Orcas Power & Light Cooperative filed an application for a preliminary permit, pursuant to section 4(f) of the Federal Power Act (FPA), proposing to study the feasibility of the Rosario Strait Tidal Energy Project (or Project) to be located on Rosario Strait in the Salish Sea, near the town of Eastsound, Washington. The sole purpose of a preliminary permit, if issued, is to grant the permit holder priority to file a license application during the permit term. A preliminary permit does not authorize the permit holder to perform any land-disturbing activities or otherwise enter upon lands or waters owned by others without the owners' express permission.

The proposed project would consist of the following: (1) a 245 foot-long, 13 foot-wide floating tube; (2) two wings attached to 65 foot diameter rotors with an overall width of 165 feet; (3) two 1.2 MW turbines (4) four catenary mooring lines (each approximately 740 feet long); (5) four seabed anchors; (6) a 3.3 mile long 12.47 kV subsea power cable; and (7) one subsea junction box.

The estimated annual generation of the Project would be 5.7 GW-hr.

Applicant Contact: Russell Guerry, C/O Orcas Power and Light Cooperative (OPALCO), 183 Mount Baker Road, Eastsound, Washington 98245 (360) 376-3500.

FERC Contact: Jeffrey Ackley at jeffrey.ackley@ferc.gov.

Deadline for filing comments, motions to intervene, competing applications (without notices of intent), or notices of intent to file competing applications: 60 days from the issuance of this notice. Competing applications and notices of intent must meet the requirements of 18 CFR 4.36.

The Commission strongly encourages electronic filing. Please file comments, motions to intervene, notices of intent, and competing applications using the Commission's eFiling system at http://www.ferc.gov/docs-filing/efiling.asp. Commenters can submit brief comments up to 6,000 characters, without prior registration, using the eComment system at http://www.ferc.gov/docs-filing/ecomment.asp. For assistance, please contact FERC Online Support at FERCOnlineSupport@ferc.gov, (866) 208-3676 (toll free), or (202) 502-8659 (TTY). In lieu of electronic filing, please send a paper copy to: Secretary, Federal Energy Regulatory Commission, 888 First Street NE, Washington, DC 20426. The first page of any filing should include docket number.

More information about this project, including a copy of the application, can be viewed or printed on the “eLibrary” link of Commission's website at http://www.ferc.gov/docs-filing/elibrary.asp. Enter the docket number in the docket number field to access the document. For assistance, contact FERC Online Support.

Dated: September 17, 2024.
Debbie-Anne A. Reese,
Acting Secretary.

[FR Doc. 2024-21725 Filed 9-23-24; 8:45 am]

BILLING CODE 6717-01-P